DEPARTMENT OF TRANSPORTATION

Surface Transportation Board

[STB Docket No. MC-F-20983]

Tedesco Family ESB Trust-Continuance in Control and Acquisition of Properties-Academy Bus, L.L.C., et al.

AGENCY: Surface Transportation Board.

ACTION: Notice Tentatively Approving Finance Application.

SUMMARY: Tedesco Family ESB Trust, Francis Tedesco and Mark Tedesco, settlers, of Hoboken, NJ (Tedesco Family Trust or applicant), a noncarrier, has filed an application under 49 U.S.C. 14303 to continue in control of Academy Express, L.L.C., Academy Lines, L.L.C., and No. 22 Hillside, L.L.C., upon their becoming motor carriers of passengers, and upon applicant's acquisition of the properties of certain motor carriers of passengers already directly or indirectly controlled by applicant. Persons wishing to oppose the application must follow the rules at 49 CFR 1182.5 and 1182.8. The Board has tentatively approved the transaction and, if no opposing comments are timely filed, this notice will be the final Board action.

DATES: Comments must be filed by September 17, 2001. Applicant may file a reply by October 1, 2001. If no comments are filed by September 17, 2001, the approval is effective on that date.

ADDRESSES: Send an original and 10 copies of any comments referring to STB Docket No. MC-F-20983 to: Surface Transportation Board, Office of the Secretary, Case Control Unit, 1925 K Street, N.W., Washington, DC 20423-0001. In addition, send one copy of any comments to applicant's representative: Fritz R. Kahn, 1920 N. Street, N.W. (8th floor), Washington, DC 20036-1601.

FOR FURTHER INFORMATION CONTACT: Joseph H. Dettmar, (202) 565-1600. [TDD for the hearing impaired: 1-(800)-877-8339.]

SUPPLEMENTARY INFORMATION: Applicant proposes to simplify its corporate structure, reorganize its enterprise for tax purposes, and have its operating companies be limited liability companies, organized under the laws of the State of New Jersey.

Instead of ten companies ¹ which heretofore had been authorized to render operations as motor carriers of passengers, there will be three operating bus lines as follows.

¹ Academy Bus Tours, Inc. (MC-165004), Academy Lines, Inc. (MC-106207), Asbury Park Transit Lines, Inc. (MC-1002); No. 22 Hillside Corp. (MC-182453), Academy Express, Inc. (MC-228481), American Limousine Service, Inc. (MC-186879), Inner Circle Qonexions, Inc. (Reentitled Academy Express, Inc.) (MC-145482), Academy Bus Tours, Inc. (PA) (MC-215354), Commuter Bus Line, Inc. (MC-162133), and Consolidated Bus Service, Inc. (MC-174942).

Academy Express, L.L.C., will be the motor carrier of passengers principally rendering special and charter operations, pursuant to operating authority to be issued by the Federal Motor Carrier Safety Administration (FMCSA). Subject to Board authorization, it will acquire the properties of Academy Bus Tours, Inc., and Academy Express, Inc., including those of American Limousine Service, Inc., Inner Circle Qonexions, Inc. (Reentitled Academy Express, Inc.), Academy Bus Tours, Inc. (PA), and Commuter Bus, Lines, Inc., whose operating authorities thereafter will be surrendered for cancellation.

Academy Lines, L.L.C., will be the motor carrier of passengers principally rendering commuter operations, pursuant to operating authority to be issued by FMCSA. Subject to Board authorization, it will acquire properties of Academy Lines, Inc., including those of Asbury Park Transit Lines, Inc., whose operating authorities thereafter will be surrendered for cancellation.

No. 22 Hillside, L.L.C., will become a motor carrier of passengers pursuant to operating authority to be issued by FMCSA. Subject to Board authorization, it will acquire the properties of No. 22 Hillside, Inc., whose operating authority thereafter will be surrendered for cancellation.

The three operating companies, Academy Express, L.L.C., Academy Lines, L.L.C., and No. 22 Hillside, L.L.C., will be controlled by a newly formed noncarrier, Academy Bus, L.L.C., a company indirectly controlled by applicant.

Academy Bus Tours, Inc., Academy Lines, Inc., No. 22 Hillside Corp., and Academy Express, Inc., thereafter will be noncarriers. The operating authority of Consolidated Bus Service, Inc., will be surrendered for cancellation, and it too will be a noncarrier.

According to applicant, these changes, while of obvious advantage to it, will also inure to the benefit of the passengers served by its directly-controlled and indirectly-controlled motor carriers of passengers. The transaction will diminish the need for fare increases and offer passengers better organized, highly specialized, and more responsive carriers in furtherance of the public interest.

Under 49 U.S.C. 14303(b), we must approve and authorize a transaction we find consistent with the public interest, taking into consideration at least: (1) the effect of the transaction on the adequacy of transportation to the public; (2) the total fixed charges that result; and (3) the interest of affected carrier employees.

Applicant has submitted the information required by 49 CFR 1182.2, including information to demonstrate that the proposed transaction is consistent with the public interest under 49 U.S.C. 14303. Specifically, applicant has stated that the proposed transaction will have a positive effect on the adequacy of transportation to the public and will result in no increase in fixed charges and no changes in employment. See 49 CFR 1182.2(a)(7). Additional information may be obtained from applicant's representative.

On the basis of the application, we find that the proposed transaction is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at “WWW.STB.DOT.GOV.”

This decision will not significantly affect either the quality of the human environment or the conservation of energy resources.

It is ordered:

1. The proposed continuance in control and acquisition of properties is approved and authorized, subject to the filing of opposing comments.

2. If timely opposing comments are filed, the findings made in this decision will be deemed vacated.

3. This decision will be effective on September 17, 2001, unless timely opposing comments are filed.

4. A copy of this notice will be served on: (1) U.S. Department of Transportation, Federal Motor Carrier Safety Administration—MC-RI, 400 Virginia Avenue, S.W., Suite 600, Washington, DC 20024; (2) the U.S. Department of Justice, Antitrust Division, 10th Street & Pennsylvania Avenue, N.W., Washington, DC 20530; and (3) the U.S. Department of Transportation, Office of the General Counsel, 400 7th Street, SW., Washington, DC 20590.

Decided: July 26, 2001.
By the Board, Chairman Morgan, Vice Chairman Clyburn, and Commissioner Burkes.
Vernon A. Williams,
Secretary.

[FR Doc. 01-19336 Filed 8-1-01; 8:45 am]

BILLING CODE 4915-00-P